DEPARTMENT OF THE TREASURY

Office of Foreign Assets Control

31 CFR Part 525

Publication of Burma Sanctions Regulations Web General License 6

AGENCY: Office of Foreign Assets Control, Treasury.

ACTION: Publication of web general licenses.

SUMMARY: The Department of the Treasury's Office of Foreign Assets Control (OFAC) is publishing one general license (GL) issued pursuant to the Burma Sanctions Regulations: GL 6, which was previously made available on OFAC's website.

DATES: GL 6 was issued on January 31, 2024.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

On January 31, 2024, OFAC issued GL 6 to authorize certain transactions otherwise prohibited by the Burma Sanctions Regulations, 31 CFR part 525. GL 6 was made available on OFAC's website (https://ofac.treasury.gov) when it was issued. The reference to 31 CFR part 594 in paragraph (a) of the GL rather than 31 CFR part 525 was an error in the original GL, which is reproduced in this publication. The text of the GL is provided below.

OFFICE OF FOREIGN ASSETS CONTROL

Burma Sanctions Regulations

31 CFR Part 525

GENERAL LICENSE NO. 6

Authorizing the Wind Down of Transactions Involving Shwe Byain Phyu Group of Companies

(a) Except as provided in paragraph (b) of this general license, all transactions prohibited by the Burma Sanctions Regulations, 31 CFR part 594 (BuSR), that are ordinarily incident and necessary to the wind down of any transaction involving Shwe Byain Phyu Group of Companies (SBPG) or any entity in which SBPG owns, directly or indirectly, a 50 percent or greater interest, are authorized through 12:01 a.m. eastern standard time, March 1, 2024, provided that any payment to a blocked person is made into a blocked account in accordance with the BuSR.

(b) This general license does not authorize any transactions otherwise prohibited by the BuSR, including transactions involving any person blocked pursuant to the BuSR other than the blocked persons described in paragraph (a) of this general license, unless separately authorized.

Bradley T. Smith,
Director, Office of Foreign Assets Control.
Dated: January 31, 2024.
Bradley T. Smith,
Director, Office of Foreign Assets Control.

[FR Doc. 2024-03625 Filed 2-21-24; 8:45 am]

BILLING CODE P